DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of October 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W 57,963; Coopervision, Inc., Subsidiary of Cooper Companies, Huntington Beach, CA

TA-W 57,861; Hickory Springs Manufacturing, Covering Elastic Div., High Point, NC

TA-W 57,879; Legacy Manufacturing Co., dba West Coast Door, Tacoma, WA

TA-W 57,919; Sterling Printing, Inc., Thomasville, NC

TA-W 57,936; North American Container Corp., Lawrenceburg, TN

The investigation revealed that criteria (a)(2)(A)(I.B.) (Sales or production, or both, did not decline) and (a)(2)(B)(II.B) (No shift in production to a foreign country) have not been met.

TA-W 57,837; Peters Manufacturing Co., Vassar, MI

TA-W 57,854; Honeywell Nylon, LLC, formerly BASF Corporation (Fibers Div.), Anderson, SC

TA-W 57,900; Tree Island Wire USA, Industrial Alloys Facility, Walnut, CA

TA-W 58,008; Inman Mills, Mt. Shoals Plant, Enoree, SC

The investigation revealed that criterion (a)(2)(A)(I.A) and (a)(2)(B)(II.A) (no employment decline) has not been met.

TA-W 57,931; Geo Specialty Chemicals, Rubber and Plastics Division, Gibbstown, NJ

TA-W 57,834; Ashley Furniture Ind., Upholstery Division, Ecru, MS

TA-W 57,851; Conn-Selmer, Vincent Bach, Elkhart, IN

TA-W 58,021; Victaulic Company of America, Apex Div., New Village, NJ

The workers firm does not produce an article as required for certification under Section 222 of the Trade Act of 1974.

TA-W 57,905; Compass Group, Morrison, TN

TA-W 57,938; OAG Worldwide, Custom Products Department, Downers Grove, IL

TA-W 57,972; AT&T Telemarketing Distribution Services, Marietta, GA

TA-W 58,018; Miralba, Inc., New York City, NY

TA-W 58,048; S. Goldberg and Co., Inc., Hackensack, NJ

The investigation revealed that criteria (a)(2)(A)(I.C.) (Increased imports) and (a)(2)(B)(II.C) (has shifted production to a foreign country) have not been met.

None

The investigation revealed that criteria (2) has not been met. The workers firm (or subdivision) is not a supplier or downstream producer to trade-affected companies.

TA-W 57,826; Ultra-Pak, Inc., Greer, SC

Affirmative Determinations for Worker Adjustment Assistance

The following certifications have been issued; the date following the company name and location of each determination references the impact date for all workers of such determination.

The following certifications have been issued. The requirements of (a)(2)(A) (increased imports) of Section 222 have been met.

TA-W 57,931; Geo Specialty Chemicals, Rubber and Plastics Division, Gibbstown, NJ

TA-W 57,815; Swift and Company, Nampa, ID: 8/18/2004.

TA-W 57,817; Applied Color Systems, Inc., d/b/a/ Datacolor, Lawrenceville, NJ: 8/23/2004.

TA-W 57,819; Ceramic Magnetics, Inc., Fairfield, NJ: 8/23/2004.

TA-W 57,822; Rubbermaid home Products, Div. of Newell Rubbermaid, Goodyear, AZ: 8/19/2004.

TA-W 57,835; Laneko Engineering Co., Fort Washington, PA: 8/18/2004.

TA-W 57,835A; Laneko Precision Corporation, Montgomeryville, PA: 8/18/2004.

TA-W 57,839; American Glove Company, Inc., Comprehensive Services, Lyerly, GA: 8/24/2004.

TA-W 57,848; Boone International, Inc., Acco Brands, Corona, CA: 8/23/2004.

TA-W 57,850; Precision Engine Products Corporation, Windsor, CT: 8/26/2004.

TA-W 57,856,; Alstom Power, Inc., Heat Exchange Division, Easton, PA: 9/11/2005.

TA-W 57,864; Aroostook Starch Co., Ft. Fairfield, ME: 8/29/2004.

TA-W 57,876; Edelweiss Mfg. Co., Inc., Hickory, NC: 8/25/2004.

TA-W 57,906; Flexsteel, Dubuque Div., Dubuque, IA: 9/29/2004.

TA-W 57,925; Sligh Furniture Operating Company, d/b/a Sligh Furniture Co, Holland, MI: 10/8/2005.

TA-W 57,932; Sterling Trimmings Co., Jersey City, NJ: 9/12/2004.

TA-W 57,947; Laminating Specialties, Inc., Warren, RI: 8/26/2004.

TA-W 58,006; Baldwin Hardware Corporation, Reading, PA: 9/9/2004.

TA-W 58,014; Kern Manufacturing, Enfield, IL: 9/22/2004.

The following certifications have been issued. The requirements of (a)(2)(B) (shift in production) of Section 222 have been met.

TA-W 57,844; Borg Warner, Transmission Systems Div., Frankfort, IL: 9/29/2004.

TA-W 57,874; Levy Group (The), Sample Room, New York, NY: 9/1/2004.

TA-W 57,880; KeyTronicEMS, Spokane, WA: 8/31/2004.

TA-W 57,882; IWP Custom Doors, Jeld-Wen, Inc., Everett, WA: 8/30/2004.

TA-W 57,883; Invacare Corp., Elyria, OH: 9/1/2004.

TA-W 57,902; Xantrex Technolgoy, Inc., Terra Personnel Group, Arlington, WA: 9/7/2004.

TA-W 57,937; Continental Bag Company, Div. of Langston Companies, Crowley, LA: 8/25/2004.

TA-W 57,941; Ward Product, LLC, Subsidiary of Mid Mark Capital Partners, Amsterdam, NY: 9/6/2004.

TA-W 57,950; Eastman Wind Instrument, Inc., d/b/a Williams S. Haynes Co, Elkhart, IN: 9/12/2004.

TA-W 57,952; Paramount Cards, Inc., Paramount Card Holding Corp, Pawtucket, RI: 9/13/2004.

TA-W 57,981; Arvin Merritor, Inc., Chickasha, OK: 10/31/2005.

TA-W 58,046; Leybold Vacuum USA, Leybold Vacuum GMBH, Export, PA: 9/27/2004.

The following certification has been issued. The requirement of supplier to a trade certified firm has been met.

TA-W 57,827; Excellence Manufacturing, Inc., Grand Rapids, MI: 8/22/2004.

TA-W 57,999; Culp, Inc., Culp Extrusion, Graham, NC: 9/15/2004.

TA-W 58,012; Grover Industries, Inc., Grover Div., Grover, NC: 9/22/2004.

TA-W 58,012A; Grover Industries, Inc., Lynn Div., Lynn, NC: 9/22/2004.

The following certification has been issued. The requirement of downstream producer to a trade certified firm has been met.

None

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department has determined that criterion (2) of Section 246 has not been met. Workers at the firm possess skills that are easily transferable.

TA-W 57,848; Boone International, Inc., Acco Brands, Corona, CA

TA-W 58,006; Baldwin Hardware Corporation, Reading, PA

TA-W 57,822; Rubbermaid home Products, Div. of Newell Rubbermaid, Goodyear, AZ

TA-W 57,882; IWP Custom Doors, Jeld-Wen, Inc., Everett, WA

The Department has determined that criterion (1) of Section 246 has not been met. Workers at the firm are 50 years of age or older.

TA-W 57,839; American Glove Company, Inc., Comprehensive Services, Lyerly, GA

TA-W 57,941; Ward Product, LLC, Subsidiary of Mid Mark Capital Partners, Amsterdam, NY

Since the workers are denied eligibility to apply for TAA, the workers cannot be certified eligible for ATAA.

TA-W 57,877A; TFL USA/Canada, Inc., Greensboro, NC

TA-W 57,885; Pliana, Inc., Div of Pliana, S.A. DE C.V., Charlotte, NC

TA-W 57,984; Sipex Corporation, Milpitas, CA

TA-W 57,817; Applied Color Systems, Inc., d/b/a/ Datacolor, Lawrenceville, NJ

TA-W 57,850; Precision Engine Products Corporation, Windsor, CT

TA-W 57,864; Aroostook Starch Co., Ft. Fairfield, ME

TA-W 57,906; Flexsteel, Dubuque Div., Dubuque, IA

TA-W 57,925; Sligh Furniture Operating Company, d/b/a Sligh Furniture Co, Holland, MI

TA-W 58,014; Kern Manufacturing, Enfield, IL

TA-W 57,815; Swift and Company, Nampa, ID

TA-W 57,819; Ceramic Magnetics, Inc., Fairfield, NJ

TA-W 57,835; Laneko Engineering Co., Fort Washington, PA

TA-W 57,835A; Laneko Precision Corporation, Montgomeryville, PA

TA-W 57,856; Alstom Power, Inc., Heat Exchange Division, Easton, PA

TA-W 57,876; Edelweiss Mfg. Co., Inc., Hickory, NC

TA-W 57,932; Sterling Trimmings Co., Jersey City, NJ

TA-W 57,880; KeyTronicEMS, Spokane, WA

TA-W 57,902; Xantrex Technolgoy, Inc., Terra Personnel Group, Arlington, WA

TA-W 57,937; Continental Bag Company, Div. of Langston Companies, Crowley, LA

TA-W 57,952; Paramount Cards, Inc., Paramount Card Holding Corp, Pawtucket, RI

TA-W 57,981; Arvin Merritor, Inc., Chickasha, OK

TA-W 57,874; Levy Group (The), Sample Room, New York, NY

TA-W 57,950; Eastman Wind Instrument, Inc., Inc., d/b/a Williams S. Haynes Co, Elkhart, IN

TA-W 58,046; Leybold Vacuum USA, Leybold Vacuum GMBH, Export, PA

TA-W 57,827; Excellence Manufacturing, Inc., Grand Rapids, MI

TA-W 57,999; Culp, Inc., Culp Extrusion, Graham, NC

TA-W 58,012; Grover Industries, Inc., Grover Div., Grover, NC

TA-W 58,012A; Grover Industries, Inc., Lynn Div., Lynn, NC

TA-W 57,931; Geo Specialty Chemicals, Rubber and Plastics Division, Gibbstown, NJ

The Department as determined that criterion (3) of Section 246 has not been met. Competition conditions within the workers' industry are not adverse.

None

Affirmative Determinations for Alternative Trade Ajdustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W 57,817; Applied Color Systems, Inc., d/b/a/ Datacolor, Lawrenceville, NJ: 8/23/2004.

TA-W 57,850; Precision Engine Products Corporation, Windsor, CT: 8/26/2004.

TA-W 57,864; Aroostook Starch Co., Ft. Fairfield, ME: 8/29/2004.

TA-W 57,906; Flexsteel, Dubuque Div., Dubuque, IA: 9/29/2004.

TA-W 57,925; Sligh Furniture Operating Company, d/b/a Sligh Furniture Co, Holland, MI: 10/8/2005.

TA-W 58,014; Kern Manufacturing, Enfield, IL: 9/22/2004.

TA-W 57,815; Swift and Company, Nampa, ID: 8/18/2004.

TA-W 57,819; Ceramic Magnetics, Inc., Fairfield, NJ: 8/23/2004.

TA-W 57,835; Laneko Engineering Co., Fort Washington, PA: 8/18/2004.

TA-W 57,835A; Laneko Precision Corporation, Montgomeryville, PA: 8/18/2004.

TA-W 57,856; Alstom Power, Inc., Heat Exchange Division, Easton, PA: 9/11/2005.

TA-W 57,876; Edelweiss Mfg. Co., Inc., Hickory, NC: 8/25/2004.

TA-W 57,932; Sterling Trimmings Co., Jersey City, NJ: 9/12/2004.

TA-W 57,880; KeyTronicEMS, Spokane, WA: 8/31/2004.

TA-W 57,902; Xantrex Technology, Inc., Terra Personnel Group, Arlington, WA: 9/7/2004.

TA-W 57,937; Continental Bag Company, Div. of Langston Companies, Crowley, LA: 8/25/2004.

TA-W 57,952; Paramount Cards, Inc., Paramount Card Holding Corp, Pawtucket, RI: 9/13/2004.

TA-W 57,981; Arvin Merritor, Inc., Chickasha, OK: 10/31/2005.

TA-W 57,874; Levy Group (The), Sample Room, New York, NY: 9/1/2004.

TA-W 57,950; Eastman Wind Instrument, Inc., d/b/a Williams S. Haynes Co, Elkhart, IN: 9/12/2004.

TA-W 58,046; Leybold Vacuum USA, Leybold Vacuum GMBH, Export, PA: 9/27/2004.

TA-W 57,827; Excellence Manufacturing, Inc., Grand Rapids, MI: 8/22/2004.

TA-W 57,999; Culp, Inc., Culp Extrusion, Graham, NC: 9/15/2004.

TA-W 58,012; Grover Industries, Inc., Grover Div., Grover, NC: 9/22/2004.

TA-W 58,012A; Grover Industries, Inc., Lynn Div., Lynn, NC: 9/22/2004.

TA-W 57,931; Geo Specialty Chemicals, Rubber and Plastics Division, Gibbstown, NJ: 9/2/2004.

I hereby certify that the aforementioned determinations were issued during the month of October 2005. Copies of these determinations are available for inspection in Room C-5311, U.S. Department of Labor, 200 Constitution Avenue, NW., Washington, DC 20210 during normal business hours or will be mailed to persons who write to the above address.

Dated: October 26, 2005.
Douglas F. Small,
Director, Division of Trade Adjustment Assistance.

[FR Doc. E5-6132 Filed 11-3-05; 8:45 am]

BILLING CODE 4510-30-P